INTERNATIONAL TRADE COMMISSION

[Investigation No. 337-TA-741/749]

Certain Liquid Crystal Display Devices, Including Monitors, Televisions, Modules, and Components Thereof; Final Determination of No Violation of Section 337 With Respect to U.S. Patent Nos. 5,978,063; 5,648,674; 5,621,556; and 5,375,006 and Termination of the Investigation as to Those Patents and Remand of the Investigation as to U.S. Patent No. 6,121,941

AGENCY: U.S. International Trade Commission.

ACTION: Notice.

SUMMARY: Notice is hereby given that the U.S. International Trade Commission has determined to reverse the determination of the presiding administrative law judge (“ALJ”) that found a violation of section 337 of the Tariff Act of 1930 with respect to U.S. Patent No. 5,648,674 (“the '674 patent”), and to affirm, with modifications, the determination of the ALJ that found no violation with respect to U.S. Patent Nos. 5,978,063 (“the '063 patent”); 5,648,674 (“the `674 patent”); 5,621,556 (“the '556 patent”); and 5,375,006 (“the '006 patent”). The Commission hereby terminates the investigation with a finding of no violation as to the '006, '063, '556 and '674 patents. With respect to U.S. Patent No. 6,121,941 (“the '941 patent”), the Commission has determined to issue a remand to the ALJ to determine whether the asserted claims are invalid in view of the ViewFrame II+2 prior art.

FOR FURTHER INFORMATION CONTACT: Jia Chen, Office of the General Counsel, U.S. International Trade Commission, 500 E Street SW., Washington, DC 20436, telephone (202) 708-4737. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted Inv. No. 337-TA-741 on October 18, 2010, based on a complaint filed by Thomson Licensing SAS of France and Thomson Licensing LLC of Princeton, New Jersey (collectively “Thomson”). 75 FR 63856 (Oct. 18, 2010). The complaint alleged violations of section 337 of the Tariff Act of 1930, as amended 19 U.S.C. 1337, by reason of infringement of various claims of the '941,'063,'674,'556; and '006 patents. The Commission instituted Inv. No. 337-TA-749 on November 30, 2010, based on a complaint filed by Thomson. 75 FR 74080 (Nov. 30, 2010). The complaint alleged violations of section 337 of the Tariff Act of 1930 by reason of infringement of various claims of the '063, '556, and '006 patents. On January 5, 2011, the Commission consolidated the two investigations. The respondents are Chimei InnoLux Corporation of Miaoli County, Taiwan and InnoLux Corportation of Austin, Texas (collectively, “CMI”); MStar Semiconductor Inc. of ChuPei, Taiwan (“MStar”); Qisda Corporation of Taoyuan, Taiwan and Qisda America Corporation of Irvine, California (collectively, “Qisda”); and BenQ Corporation of Taipei, Taiwan, BenQ America Corporation of Irvine, California, and BenQ Latin America Corporation of Miami, Florida (collectively “BenQ”); Realtek Semicondustor Corp. of Hsinchu, Taiwan (“Realtek”); and AU Optronics Corp. of Hsinchu, Taiwan and AU Optronics Corp. America of Houston, Texas (collectively “AUO”).

On January 12, 2012, the ALJ issued the subject ID finding a violation of Section 337 with respect to the '674 patent. The ALJ found that the CMI accused products including the Type 2 Array Circuitry and any Qisda or BenQ accused products incorporating these CMI accused products infringe the asserted claims of the '674 patent. The ALJ found that no other accused products infringe the '674 patent. The ALJ also found that no accused products infringe the asserted claims of the '063 patent, the '006 patent, the '556 patent, or the '941 patent. The ALJ also found that claims 1, 2, 3, 4, 8, 11, 12, 14, and 18 of the '063 patent are invalid for obviousness under 35 U.S.C. 103, and that claims 4 and 14 of the '006 patent are invalid as anticipated under 35 U.S.C. 102. The ALJ further found that claim 17 of the '063 patent, claim 7 of the '006 patent, and the asserted claims of the '556 patent, the '674 patent, and the '941 patent are not invalid. The ALJ concluded that a domestic industry exists in the United States that exploits the asserted patents as required by 19 U.S.C. 1337(a)(2). On January 25, 2011, Thomson, CMI, MStar, Realtek, and AUO each filed a petition for review of the ID. BenQ and Qisda filed a joint petition for review incorporating the other respondents' arguments by reference.

On March 26, 2012 the Commission determined to review (1) Claim construction of the limitation “layer” of the asserted claims of the '006 patent; (2) infringement of the asserted claims of the '006 patent; (3) anticipation of claims 4 and 7 of the '006 patent by Scheuble; (4) the claim construction of the limitations “mechanically rubbing”/“mechanically rubbed,” “a plurality of spacing elements,” and “an affixing layer” of the asserted claims of the '063 patent; (5) infringement of the asserted claims of the '063 patent; (6) obviousness of the asserted claims of the '063 patent in view of Sugata and Tsuboyama; (7) whether Lowe and Miyazaki are prior art to the asserted claims of the '063 patent; (8) anticipation of the asserted claims of the '063 patent by Lowe; (9) anticipation of the asserted claims of the '063 patent by Miyazaki; (10) obviousness of the asserted claim of the '556 patent in view of Takizawa and Possin; (11) anticipation and obviousness of the asserted claims of the '674 patent in view of Fujitsu; (12) claim construction of the “second rate” “determined by” limitation of the asserted claims of the '941 patent and the “input video signal” limitation of claim 4 of the '941 patent; (13) infringement of the asserted claims of the '941 patent; (14) anticipation of the asserted claims of the '941 patent by Baba; (15) exclusion of evidence of the ViewFrame II+2 LCD Panel; and (16) economic prong of the domestic industry requirement.

On March 26, 2012, the Commission also determined to review and to take no position on the claim construction of the terms “drain electrodes” and “source electrodes” of the '556 patent. The Commission requested briefing from the parties on the issues on review, as well as on remedy, the public interest, and bonding.

Having examined the record of this investigation, including the ALJ's final ID and the submissions of the parties, the Commission has determined to reverse the ALJ's finding of violation of section 337 by the '674 patent and affirm, with modifications, the findings of no violation of section 337 as to the '006, '063 and '566 patents. Specifically, the Commission finds that the asserted claims of the `674 patent are infringed by respondents CMI, Qsida, and BenQ, and that respondents have shown that claims 1, 7, 8, 14, 16, 17, and 18 of the '674 patent are anticipated by Fujitsu and that claims 9, 11, and 13 are obvious in view of Fujitsu and the knowledge of one of ordinary skill in the art. The Commission also finds that (a) Respondents do not infringe the asserted claims of the '006 patent; (b) Scheuble does not anticipate claims 4 and 7 of the '006 patent; (c) respondent AUO, Qsida, and BenQ infringe claims 11, 12, 14, 17, and 18, but not the remaining asserted claims of the '063 patent; (d) respondent CMI does not infringe the asserted claims of the '063 patent; (e) the '063 patent are obvious in view of Sugata and Tsuboyama; (f) Lowe and Miyazaki are prior art to claims 1-4 and 8 of the '063 patent, but not the remaining asserted claims of the '063 patent; (g) respondents have not shown that Lowe anticipates the asserted claims of the '063 patent; (h) Miyazaki anticipates claims 11, 12, 14, 17, and 18 of the '063 patent, but not any of the remaining asserted claims of the '063 patent; (i) respondents have not shown that claim 3 of the '556 patent is obvious in view of Takizawa and Possin; and (j) complainant satisfied the economic prong of the domestic industry requirement under 19 U.S.C. 1337(a)(3)(C). Therefore, the investigation is terminated with a finding of no violation as to the '006, '063, '556 and '674 patents. With respect to the '941 patent, the Commission affirms that (a) respondents do not infringe the asserted claims of the `941 patent; and (b) respondents have not shown that the asserted claims of the `941 patent are obvious in view of Baba. The Commission reverses the ALJ's ruling to exclude from the record evidence of the ViewFrame II+2 prior art, and remands to the ALJ to decide whether the ViewFrame II+2 anticipates the asserted claims of the '941 patent (the Commission notes that this patent expires on August 26, 2012).

The authority for the Commission's determination is contained in section 337 of the Tariff Act of 1930, as amended (19 U.S.C. 1337), and in sections 210.42-46 and 210.50 of the Commission's Rules of Practice and Procedure (19 CFR 210.42-46 and 210.50).

By order of the Commission.
Issued: June 14, 2012.
Lisa Barton,
Acting Secretary to the Commission.

[FR Doc. 2012-15005 Filed 6-19-12; 8:45 am]

BILLING CODE 7020-02-P